NATIONAL SCIENCE FOUNDATION

Proposal Review Panel for Computing & Communication Foundations; Notice of Meeting

In accordance with the Federal Advisory Committee Act (Pub. L. 92-463, as amended), the National Science Foundation (NSF) announces the following meeting:

Name and Committee Code: Proposal Review Panel for Computing & Communication Foundations (#1192).

Date and Time: July 19, 2023-July 20, 2023, 8:00 a.m.-4:30 p.m. (Eastern).

Place: Halicioglu Data Science Institute, 234 Matthews Ln., La Jolla, CA 92093.

Type of Meeting: Part-Open.

Contact Persons: Dr. Sankar Basu, National Science Foundation, 2415 Eisenhower Avenue, Alexandria, VA 22314; Telephone: (703) 292-8910.

Purpose of Meeting: To provide advice and recommendations concerning progress of the AI Institute for Learning-enabled Optimization at Scale (TILOS).

Agenda: To conduct an in-depth evaluation of performance, to assess progress towards goals, and to provide recommendations.

Day 1: July 19, 2023

8:00 a.m.—8:15 a.m. Introductions (Open)

8:15 a.m.-8:30 a.m. Welcome and Institute Overview (Open)

8:30 a.m.-10:00 a.m. Research Overview (Open)

10:00 a.m.-10:15 a.m. BREAK

10:15 a.m.-10:45 a.m. Executive Session for NSF Review Team (Closed)

10:45 a.m.-11:30 a.m. Education and Broad Impacts (Open)

11:30 a.m.-Noon Leadership and Collaboration (Open)

Noon-1:00 p.m. LUNCH, Poster Sessions in parallel (Open)

1:00 p.m.-1:45 p.m. NSF team meets w/UCSD leadership (Closed) External visitors meet with Student (poster) Session (Open)

1:45 p.m.-2:15 p.m. Executive Session for NSF Review Team (Closed)

2:15 p.m.-3:00 p.m. Knowledge Transfer and Workforce Development (Open)

3:00 p.m.-3:15 p.m. Wrap up

3:15 p.m.-4:15 p.m. Executive Session for NSF Review Team (Closed)

4:15 p.m.-4:30 p.m. Written questions/issues to TILOS by the Site Visit Team (Closed)

Day 2: July 20, 2023

8:00 a.m.-9:00 a.m. TILOS Response to issues raised by Site Visit Team (Closed)

9:30 a.m.-4:00 p.m. Site Visit Review Team prepares Site Visit Report (Closed)

4:00 p.m.-4:30 p.m. Presentation of Site Visit Report (Executive Summary) to TILOS team (Closed)

4:30 p.m. Site Visit concludes.

Reason for Closing: Topics to be discussed and evaluated during closed portions of the site review will include information of a proprietary or confidential nature, including technical information; and information on personnel. These matters are exempt under 5 U.S.C. 552b(c), (4) and (6) of the Government in the Sunshine Act.

Dated: June 15, 2023.
Crystal Robinson,
Committee Management Officer.

[FR Doc. 2023-13182 Filed 6-20-23; 8:45 a.m.]

BILLING CODE 7555-01-P